DEPARTMENT OF ENERGY

Federal Energy Regulatory Commission

[Project No. 4881-031]

Ada County, Idaho Fulcrum LLC; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 4881-031.

c. Date filed: November 30, 2021.

d. Applicant: Ada County, Idaho; Fulcrum LLC.

e. Name of Project: Barber Dam Hydroelectric Project.

f. Location: On the Boise River, near the city of Boise, Ada County, Idaho. The project does not occupy federal land.

g. Filed Pursuant to: Federal Power Act 16 U.S.C. 791 (a)-825(r).

h. Applicant Contact: Nicholas Josten, 2742 St. Charles Ave., Idaho Falls, Idaho 83404; 208-520-5135.

i. FERC Contact: Matt Cutlip, 503-552-2762, matt.cutlip@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: January 31, 2022.

The Commission strongly encourages electronic filing. Please file additional study requests and requests for cooperating agency status using the Commission's eFiling system at http://www.ferc.gov/docs-filing/efiling.asp. Commenters can submit brief comments up to 6,000 characters, without prior registration, using the eComment system at http://www.ferc.gov/doc-sfiling/ecomment.asp. You must include your name and contact information at the end of your comments. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. The first page of any filing should include docket number P-4881-031. For assistance, please contact FERC Online Support at FERCOnlineSupport@ferc.gov, (866) 208-3676 (toll free), or (202) 502-8659 (TTY).

m. The application is not ready for environmental analysis at this time.

n. The Barber Dam Project consists of the following existing facilities: (1) A 1,100-foot-long earthen embankment dam; (2) a 400-foot-long, 25-foot-high concrete capped timber crib spillway section; (3) a powerhouse containing two 1,850-kilowatt generating units; (4) a trash sluiceway; (5) a 75-acre impoundment; (6) a 100-foot-long concrete tailrace; (7) 120 feet of transmission line; and (8) appurtenant facilities. The project is operated in a run-of-river mode and generates an average of 11,900 megawatt-hours per year. The licensee proposes to modify the existing spillway to incorporate a variable elevation weir, and to modify the plant operating system to control the variable weir so that water is automatically bypassed to the Boise River when the powerhouse trips offline.

o. A copy of the application can be viewed on the Commission's website at http://www.ferc.gov using the “eLibrary” link. Enter the docket number excluding the last three digits in the docket number field to access the document. At this time, the Commission has suspended access to the Commission's Public Reference Room due to the proclamation declaring a National Emergency concerning the Novel Coronavirus Disease (COVID-19) issued on March 13, 2020. For assistance, contact FERC Online Support.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Additional Study Requests due—January 2022

Issue Deficiency Letter (if needed)—January 2022

Request for Additional Information (if needed)—January 2022

Issue Scoping Document 1 for comments—April 2022

Issue Determination on Additional Study Requests—April 2022

Final amendments to the application must be filed with the Commission no later than 30 days from the issuance date of the notice of ready for environmental analysis.

Dated: December 14, 2021.
Kimberly D. Bose,
Secretary.

[FR Doc. 2021-27565 Filed 12-20-21; 8:45 am]

BILLING CODE 6717-01-P